DEPARTMENT OF COMMERCE

National Oceanic and Atmospheric Administration

National Integrated Drought Information System (NIDIS) Executive Council Meeting

AGENCY: National Oceanic and Atmospheric Administration (NOAA), Department of Commerce (DOC).

ACTION: Notice of open meeting.

SUMMARY: The National Integrated Drought Information System (NIDIS) Program Office will hold a virtual, organizational meeting of the NIDIS Executive Council on May 4, 2021.

DATES: The meeting will be held Tuesday, May 4, 2021 from 11:00 a.m. EST to 2:00 p.m. EST. These times and the agenda topics are subject to change.

ADDRESSES: The meeting will be held virtually. To register, please visit: https://cpaess.ucar.edu/meetings/2021-nidis. You must register online to receive the webcast meeting link and audio teleconference information for participation.

FOR FURTHER INFORMATION CONTACT: Veva Deheza, NIDIS Executive Director, David Skaggs Research Center, Room GD102, 325 Broadway, Boulder, CO 80305. Phone Number: 303-487-3431; Email: Veva.Deheza@noaa.gov; or visit the NIDIS website at www.drought.gov.

SUPPLEMENTARY INFORMATION: The National Integrated Drought Information System (NIDIS) was established by Public Law 109-430 on December 20, 2006, and reauthorized by Public Law 113-86 on March 6, 2014 and Public Law 115-423 on January 7, 2019 , with a mandate to provide an effective drought early warning system for the United States; coordinate, and integrate as practicable, Federal research in support of a drought early warning system; and build upon existing forecasting and assessment programs and partnerships. See 15 U.S.C. 313d. The Public Law also calls for consultation with “relevant Federal, regional, State, tribal, and local government agencies, research institutions, and the private sector” in the development of NIDIS. 15 U.S.C. 313d(c). The NIDIS Executive Council provides the NIDIS Program Office with an opportunity to engage in individual consultation with senior resource officials from NIDIS's Federal partners, as well as leaders from state and local government, academia, nongovernmental organizations, and the private sector.

Status: This meeting will be open to public participation. Individuals interested in attending should register at https://cpaess.ucar.edu/meetings/2021-nidis. Please refer to this web page for the most up-to-date meeting times and agenda.

Matters to be Considered: The meeting will include the following topics: (1) NIDIS implementation updates and 2021 priorities, including response to current drought conditions in the Western United States, (2) Executive Council member updates relevant to Climate Adaptation and Resilience, Drought, Water, and Fire, (3) Federal Agency Water and Drought Priorities, Executive Orders, and Legislative Updates, and (4) NIDIS Implementation Plan 2021-2025 as well as program growth and emerging issues.

Dated: April 21, 2021.
David Holst,
Chief Financial Officer/Administrative Officer, Office of Oceanic and Atmospheric Research, National Oceanic and Atmospheric Administration.

[FR Doc. 2021-09080 Filed 4-29-21; 8:45 am]

BILLING CODE 3510-KB-P